DEPARTMENT OF COMMERCE

National Oceanic and Atmospheric Administration

[I.D. 061903A]

Marine Mammals; Notice of Intent to Prepare an Environmental Impact Statement for the Atlantic Large Whale Take Reduction Plan (ALWTRP)

AGENCY: National Marine Fisheries Service (NMFS), National Oceanic and Atmospheric Administration (NOAA), Commerce.

ACTION: Notice of intent (NOI) to prepare an Environmental Impact Statement (EIS); notice of public scoping meetings; request for comments.

SUMMARY: NMFS announces its intention to prepare an EIS for the ALWTRP, in accordance with the National Environmental Policy Act (NEPA), to analyze impacts to the environment of the management alternatives under consideration. The purpose of this action is to solicit public comments on the scope of issues to be addressed in the EIS. NMFS requests comments on management options, including those provided by the Atlantic Large Whale Take Reduction Team (ALWTRT), for this action. Additionally, NMFS is seeking information on the range of impacts that should be considered for the various options designed to reduce the incidental mortality and serious injury of right, humpback and finback whales incidentally taken in commercial fisheries.

DATES: Written comments must be postmarked or transmitted via facsimile (fax) at the appropriate address or number (see ADDRESSES) no later than 5 p.m. Eastern Standard Time on July 30, 2003. The public scoping meetings will be held in July. For specific dates and times see SUPPLEMENTARY INFORMATION.

ADDRESSES: Written comments on this action should be sent to: Mary Colligan, Assistant Regional Administrator for Protected Resources, NMFS/Northeast Region, One Blackburn Drive, Gloucester, MA 01930, Attn: Large Whale EIS. Comments may also be sent via fax to 978-281-9394. Comments submitted via e-mail or Internet will not be accepted. Copies of the most recent marine mammal stock assessment reports may be obtained by writing Chief, Marine Mammal Division, Office of Protected Resources, NMFS, Silver Spring, MD 20910 or may be downloaded from the Internet (see Electronic Access). For locations of scoping meetings see SUPPLEMENTARY INFORMATION.

FOR FURTHER INFORMATION CONTACT: Diane Borggaard, NMFS/Northeast Region, 978-281-9328 ext. 6503; Juan Levesque, NMFS/Southeast Region, 727-570-5779; or Kristy Long, NMFS, Office of Protected Resources, 301-713-2322.

SUPPLEMENTARY INFORMATION:

Electronic Access

The ALWTRP is implemented under authority of the Marine Mammal Protection Act (MMPA) by regulations at 50 CFR 229.32. Copies of the background documents provided to the ALWTRT in advance of the April 2003 ALWTRT meeting and general information on the ALWTRP may be obtained from the ALWTRP website at: http://www.nero.nmfs.gov/whaletrp. Copies of the most recent marine mammal stock assessment reports may be downloaded from the Office of Protected Resources website at: http://www.nmfs.noaa.gov/pr/PR2/Stock_Assessment_Program/individual_sars.html. Once available, a meeting summary of the April 2003 ALWTRT meeting will be posted on the ALWTRP website. A document which summarizes ALWTRP options from the April 2003 meeting and subsequent subgroup meetings will also be posted on the ALWTRP website on or about July 1, 2003, and made available to the public at scoping meetings.

Background

On June 14, 2001, NMFS issued four Biological Opinions (BOs) as the result of Endangered Species Act section 7 consultations on the Fishery Management Plans (FMPs) for the monkfish, spiny dogfish, and Northeast multispecies fisheries, and on the Federal regulations for the American lobster fishery. The BOs concluded that the regulations implementing the three FMPs and the lobster regulations were likely to jeopardize the continued existence of right whales. In response to this finding, NMFS developed a Reasonable and Prudent Alternative (RPA) with multiple management components. As part of its RPA, NMFS developed gear restrictions for the anchored gillnet and lobster trap fisheries based on predictable annual concentrations of right whales. This management component is known as the Seasonal Area Management (SAM) program.

The BOs established September 30, 2001 as the deadline for identifying proposed rules to implement the RPA. NMFS complied with the deadline by publishing an Advanced Notice of Proposed Rulemaking (ANPR) and a Notice of Intent (NOI) to Prepare an EIS for the SAM program on October 3, 2001 (66 FR 50390). However, the Federal District Court for the District of Massachusetts ordered NMFS to prepare a proposed rule to implement the SAM program by November 23, 2001, and a final rule to implement the program by December 31, 2002. As a result of the Court's findings, NMFS engaged in an accelerated rulemaking process for implementing a SAM program. The SAM program was approved on December 31, 2002, and published as an interim final rule on January 9, 2002 (67 FR 1142). In support of the interim final rule for the SAM program, NMFS prepared an Environmental Assessment and Regulatory Impact Review. Information concerning the BOs, including the RPA may be found in the original ANPR and NOI for the SAM program published on October 3, 2001 (see citation above) and is not repeated here.

This EIS was originally intended to analyze impacts to the environment of different management alternatives that would finalize the SAM program. However, due to continuing large whale entanglements in fishing gear since the publication of the SAM interim final rule, NMFS believes additional modifications to the ALWTRP are needed. Therefore, this document announces NMFS' intent to change the scope of the EIS and consider more alternatives for possible amendments to the ALWTRP. NMFS believes modifications to the ALWTRP are needed to meet the goals of the MMPA by reducing incidental mortality and serious injury to three strategic large whale species - the North Atlantic right whale (Eubalaena glacialis), humpback whale (Megaptera novaeangliea), and fin whale (Balaenoptera physalus) - incidentally taken in commercial fisheries to or below the Potential Biological Removal (PBR) level for each stock.

ALWTRT

NMFS reconvened the ALWTRT April 28-30, 2003, to help evaluate the ALWTRP, which currently regulates lobster trap/pot and gillnet fisheries, and discuss additional modifications that may be necessary to meet the goals of the MMPA. For example, five right whale mortalities and eight entanglements were documented in 2002. The ALWTRT was asked to consider and develop possible options to address fishery interactions with large whales by reducing the potential for entanglements, minimize adverse effects if entanglements occur, and mitigate the effects of any unavoidable entanglements. New fisheries (Northeast trap/pot, Mid-Atlantic mixed species trap/pot, and Mid-Atlantic and Southeast Atlantic black sea bass trap/pot fisheries) were added to the ALWTRT process in 2003, including those that target hagfish, Jonah crab, red crab, shrimp, black sea bass, and conch/whelk. NMFS requested that the ALWTRT consider options for regulating these fisheries under the ALWTRP.

It was agreed that the ALWTRT would meet in separate subgroups over the two months following the April 2003 meeting to further refine the proposals developed at the meeting. These ALWTRT meetings included a “Northeast Inshore Lobster Trap/Pot” subgroup that met on May 19, 2003, in Portsmouth, NH; an “Offshore Trap/Pot” subgroup that met on June 17, 2003, in Gloucester, MA, and a “Southeast/Mid-Atlantic” subgroup that is expected to meet on June 23, 2003, in Philadelphia, PA. All ALWTRT meetings, including subgroup meetings, are open to the public. Recommendations and/or proposals from the full ALWTRT and subsequent subgroup meetings will be used to draft a management options document that will be distributed at scoping meetings.

Management Options

This notice provides an opportunity for public involvement in identifying the scope of the issues to be addressed in the EIS. NMFS requests comments on management options, including those provided by the ALWTRT, for this action. Additionally, NMFS is seeking information on the range of impacts that should be considered for the various options. Background documents provided to the ALWTRT and general public in advance of the April 2003 meeting are available for review (see Electronic Access). A summary of options from the ALWTRT meetings will be made available prior to the scoping meetings (see Electronic Access). Comments received on this action will assist NMFS in determining the alternatives for rulemaking to reduce interactions of right, humpback, and fin whales with commercial fisheries.

The ALWTRP (50 CFR 229.32) is a multi-faceted plan that includes area closures, gear modification requirements in areas open to fixed gear fishing, Dynamic Area Management (DAM) and SAM programs, gear research to develop new modifications to current practices and/or fishing techniques, a right whale Sighting Advisory System, and a disentanglement program to free whales incidentally caught in fishing gear. Proposals to amend the ALWTRP that were discussed by the ALWTRT included, but were not limited to, eliminating or modifying the DAM program; expanding the SAM program by increasing the areas in time and space; modifying the current gear modifications in SAM and DAM areas by allowing for two buoy lines and polypropylene line on the bottom third of the buoy line; eliminating the DAM and SAM programs and implementing a phase-in period for broad-based gear modifications, including a requirement for sinking/neutrally buoyant line in groundlines or reducing the line profile of groundlines; increased gear research to reduce risk associated with buoy lines; consideration of regional and seasonal differences in fishing practices in the waters regulated under the ALWTRP; regulating other trap/pot fisheries (e.g. hagfish, Jonah crab, red crab, black sea bass, scup, tautog, shrimp, conch/whelk) under the ALWTRP; exempting waters both by area and depth based on lack of whale sightings in these areas, or unlikelihood that whales dive to deep depths; consideration of “special areas” where additional time is needed to phase-in sinking/neutrally buoyant line in groundlines or reducing the line profile of groundlines due to rocky bottom areas; clarifications to the ALWTRP regulatory language; revised gear marking scheme; increased gear research to reduce risk associated with buoy lines; and expanded ALWTRP outreach.

Within the comment period established by this notice (see DATES), NMFS will hold six public scoping meetings to gather public comment on the development and implementation of new management measures for the ALWTRP.

Schedule of Public Scoping Meetings

The dates, times, and locations of the meetings are scheduled as follows:

1. Monday, July 7, 2003 - Fairhaven, MA, 6-9 p.m.

Holiday Inn, 110 Middle Street, Fairhaven, MA 02719

2. Wednesday, July 9, 2003 - Cape May Court House, NJ, 6-9 p.m.

Rutgers Cooperative Extension of Cape May County, 355 Court House/South Dennis

Road (Route 657), Cape May Court House, NJ

3. Thursday, July 10, 2003 - Washington, NC, 6-9 p.m.

North Carolina Division of Marine Fisheries, Pamlico District Office, 943 Washington

Square Mall, Washington, NC 27889

4. Monday, July 14, 2003 - Portland, ME, 6-9 p.m.

Holiday Inn - Portland by the Bay, 88 Spring Street, Portland, ME 04101

5. Tuesday, July 15, 2003 - Ellsworth, ME, 6-9 p.m.

Holiday Inn, 215 High Street, Ellsworth, ME 04505

6. Thursday, July 17, 2003 - Ft. Pierce, FL, 6-9 p.m.

Holiday Inn, Okeechobee Road, Ft. Pierce, FL 34950

Special Accommodations

These meetings are physically accessible to people with disabilities. Request for sign language interpretation or other auxiliary aids should be directed to Diane Borggaard 978 - 281-9328.

Dated: June 24, 2003.
Laurie K. Allen,
Acting Director of Protected Resources, National Marine Fisheries Service.

[FR Doc. 03-16430 Filed 6-27-03; 8:45 am]

BILLING CODE 3510-22-S